ENVIRONMENTAL PROTECTION AGENCY

[ER-FRL-6669-9]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in FR dated April 1, 2005 (70 FR 16815).

Draft EISs

EIS No. 20050325, ERP No. D-AFS-D65032-WV, Programmatic—Monongahela National Forest Plan Revision, Proposes to Revise Land and Resource Management Plan, Barbour, Grant, Greenbrier, Nicholas, Pendleton, Pocahontab, Preston, Randolph, Tucker, Webster Counties, WV.

Summary: EPA expressed environmental concerns about the potential for impacts to air and water quality, and habitat.

Rating EC1.

EIS No. 20050378, ERP No. D-COE-C39018-NJ, Liberty State Park Ecosystem Restoration Project, Hudson Raritan Estuary Study, To Address the Adverse Impacts Associated with Past Filling Activities, Port Authority of New York and New Jersey, Jersey City, Hudson County, NJ.

Summary: EPA does not object to the implementation of the preferred alternative.

Rating LO.

EIS No. 20050386, ERP No. D-NOA-L39063-AK, Office of Ocean and Coastal Resource Management Approval of Amendments to the State of Alaska's Coastal Management Program, Implementation, Funding, AK.

Summary: EPA is concerned about the potential negative impacts to biological, cultural and subsistence resources, and subsistence users in coastal Alaska communities due to the limited range of alternatives analyzed, lack of cumulative effects analysis, environmental justice concerns and lack of documentation of effective government to government consultation with affected Alaska Native tribes.

Rating EC2.

EIS No. 20050397, ERP No. D-BIA-L65495-ID, PROGRAMMATIC—Coeur d' Alene Tribe Integrated Resource Management Plan, Implementation, Coeur d' Alene Reservation and Aboriginal Territory , ID.

Summary: While EPA has no objection to the proposed action, we did request clarification on how predicted harvest levels/habitat acreage compared to historic ranges/sizes and on non-native species.

Rating LO.

EIS No. 20050404, ERP No. D-NPS-F65076-OH, First Ladies National Historic Site General Management Plan, Implementation, Canton, OH.

Summary: EPA has no objections to the preferred alternative.

Rating LO.

EIS No. 20050416, ERP No. D-NOA-G90016-TX, Programmatic—Texas National Estuarine Research Reserve and Management Plan, Mission-Aransas Estuary, Site Designation, Federal Approval, TX.

Summary: EPA had no objections to the preferred alternative.

Rating LO.

EIS No. 20050395, ERP No. DS-HUD-K80045-CA, Stillwater Business Park, New and Revised Information, Development of Business Park, Annexation AN1-01, Shastec Redevelopment Project Area, Airport Land Use Plan Amendment , Pre-Zone, General Plan Amendment GPA-2-01, Rezone RZ-1-01, Funding and U.S. Army COE 404 Permit, City of Redding, Shasta County, CA.

Summary: EPA has environmental concerns about alternatives, off-site mitigation, cumulative impacts to habitat/hydrology, and induced growth impacts.

Rating EC2.

EIS No. 20050422, ERP No. DS-COE--G36072-AR, Fourche Bayou Basin Project, 1,750 Acre Bottomland Acquisition with Nature Appreciation Facilities, Development, Funding, City of Little Rock, Pulaski County, AR.

Summary: EPA strongly supports the U.S. Army Corps of Engineers plans to proceed with purchase of the 1,750 acres of bottomland hardwoods and has no objections to the preferred alternative.

Rating LO.

Final EISs

EIS No. 20050336, ERP No. F-FAA-D40328-VA, Washington Dulles International Airport Project, Acquisition of Land, Construction and Operation, IAD 2004 Airport Layout Plan (ALP), Dulles, VA.

Summary: EPA continues to be concerned about mitigation proposed for wetland and stream impacts. In addition, EPA expressed concern about air toxic modeling.

EIS No. 20050384, ERP No. F-COE-D39029-DC, Washington Aqueduct's Project, Proposed Water Treatment Residuals Management Process, NPDES Permit, Dalecarlia and McMillan Water Treatment Plants, Potomac River, Washington, DC.

Summary: EPA believes that the Final EIS adequately considers the potential impacts of the preferred and other alternatives and has no objections to its implementation.

EIS No. 20050430, ERP No. F-COE-D36075-PA, The Town of Bloomsburg, Columbia County, Pennsylvania Flood Damage Reduction Project, Implementation, Integrated Feasibility Report, Susquehanna River and Fishing Creek, Town of Bloomsburg, Columbia County, PA.

Summary: EPA has no objection to the proposed action.

Dated: November 29, 2005.
Robert W. Hargrove,
Director, NEPA Compliance Division, Office of Federal Activities.

[FR Doc. E5-6761 Filed 12-1-05; 8:45 am]

BILLING CODE 6560-50-P